COMMODITY FUTURES TRADING COMMISSION.

17 CFR Part 4

RIN 3038-AB97

Additional Registration and Other Regulatory Relief for Commodity Pool Operators and Commodity Trading Advisors; Past Performance Issues; Correction.

AGENCY: Commodity Futures Trading Commission.

ACTION: Final rules; correction.

SUMMARY: The Commodity Futures Trading Commission (Commission) published in the Federal Register of August 8, 2003, a document providing additional relief for certain persons excluded from the commodity pool operator (CPO) definition, providing exemptions from registration as a CPO or commodity trading adviser (CTA), and facilitating communications by CPOs and CTAs (Final Rules). This document contains corrections to the Final Rules.

DATES: Effective October 14, 2003.

FOR FURTHER INFORMATION CONTACT: Barbara S. Gold, Associate Director, or Christopher W. Cummings, Special Counsel, Division of Clearing and Intermediary Oversight, Commodity Futures Trading Commission, 1155 21st Street, NW., Washington, DC 20581, telephone numbers: (202) 418-5450 or (202) 418-5445, respectively; facsimile number: (202) 418-5528; and electronic mail: bgold@cftc.gov or ccummings@cftc.gov, respectively.

SUPPLEMENTARY INFORMATION: The Commission published in the Final Rules in the Federal Register of August 8, 2003 (68 FR 47221), The Final Rules affect CPOs and CTAs and persons excluded or exempted from registering as such. As published, however, the Final Rules contain errors that may be misleading and need clarification. By this release, the Commission is making typographical and technical corrections, none of which directly affect the rights and obligations of persons under the Commission's regulations.

In Rule FR Doc. 03-20094 published on August 8, 2003, make the following corrections:

§ 4.13 [Corrected]

1. On page 47231, in the second column, in § 4.13 introductory text, in the fourteenth line, delete “and”, and in the twentieth line, before the period, insert the following text: “; and paragraph (f) of this section specifies the effect of this section on § 4.5 of this chapter”.

§ 4.14 [Corrected]

2. On page 47233, in the third column, in § 4.14(a)(8)(i)(D), in the eighth line, after the semicolon, insert “and”.

§ 4.31 [Corrected]

3. On page 47235, in the third column, in § 4.31(a), in the tenth line, delete “direct” and insert “guide”.

Issued in Washington, DC., on October 7, 2003 by the Commission.
Jean A. Webb,
Secretary of the Commission.

[FR Doc. 03-25944 Filed 10-10-03; 8:45 am]

BILLING CODE 6351-01-M